DEPARTMENT OF JUSTICE

Antitrust Division

Notice Pursuant to the National Cooperative Research and Production Act of 1993—DVD Copy Control Association

Notice is hereby given that, on October 8, 2003, pursuant to Section 6(a) of the National Cooperative Research and Production Act of 1993, 15 U.S.C. 4301 et seq. (“the Act”), DVD Copy Control Association (“DVD CCA”) has filed written notifications simultaneously with the Attorney General and the Federal Trade Commission disclosing changes in its membership status. The notifications were filed for the purpose of extending the Act's provisions limiting the recovery of antitrust plaintiffs to actual damages under specified circumstances. Specifically, Accesstek, Inc., Hsinchu, TAIWAN; Advanced Media Technology Co., Ltd., Seongnam-City, REPUBLIC OF KOREA; Boston Acoustics, Inc., Peabody, MA; Broadcom Corporation, Irvine, CA; Feng Sheng Technology Co., Ltd., Taipei Hsien, TAIWAN; Guangdong Kwanloon Electronics and Technology Co., Ltd., Shenzhen, PEOPLE'S REPUBLIC OF CHINA; Hanbit System Co., Ltd., Kyonggi-do, REPUBLIC OF KOREA; Harvests Multimedia Pte Ltd., Singapore, SINGAPORE; ims international media service spa, Varese, ITALY; Jiangsu Syber Electronic Co., Ltd., Zhenjiang, PEOPLE'S REPUBLIC OF CHINA; Kent Worldco., Ltd., Taipei, TAIWAN; Media Mastering Services, LLC., Brea, CA; Media Solutions, Paris, FRANCE; New York Nickel LLC, Bohemia, NY; Nexphil Electronics Co., Ltd., Seoul, REPUBLIC OF KOREA; OPT Corporation, Nagano-ken, JAPAN; PitsExpert Technology Co., Ltd., Taipei, TAIWAN; PrediWave Corporation, Fremont, CA; Primare Systems AB, Vaxjo, SWEDEN; Shenzhen Contel Electronics Technology Co., Ltd., Shenzhen, PEOPLE'S REPUBLIC OF CHINA; SOHO Tech Village, Ltd., Eastlake, OH; and Techsan I&C Co., Pyeongtaek-Si, REPUBLIC OF KOREA have been added as parties to this venture.

Also, Aralion Inc., Seoul, REPUBLIC OF KOREA; Cyrus Electronics Ltd., Cambridge, UNITED KINGDOM; E&S Electronics Co., Ltd., Seoul, REPUBLIC OF KOREA; EMI Operations Italy S.p.A., Caronno Pertusella, ITALY; Electric Switch Limited, London, UNITED KINGDOM; Infineon Technologies Corporation, San Jose, CA; Macro Image Technology, Inc., Seoul, REPUBLIC OF KOREA; Songpagu, Seoul, REPUBLIC OF KOREA; MicroPious Co., Ltd., Pyeongtaek-Si, REPUBLIC OF KOREA; Musion Co., Ltd., Seoul, REPUBLIC OF KOREA; Nakamichi Corporation, Tokyo, JAPAN; Prochips Technology, Seoul, REPUBLIC OF KOREA; and UP Technology, Seoul, REPUBLIC OF KOREA have dropped as parties to this venture. In addition, Delux Video has changed its name to Deluxe Media Services, Inc., Vernon Hills, IL; Dongguan Albatronics (Far East) Electronics Co., Ltd. has changed its name to Dongguan Great Vision Technology Ltd., Guangdong, PEOPLE'S REPUBLIC OF CHINA; and Shenzhen Landel Electronics Technology Co., Ltd. has changed its name to Shenzhen Contel Electronics Technology Co., Ltd., Shenzhen, PEOPLE'S REPUBLIC OF CHINA.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to Section 6(b) of the Act on August 3, 2001 (66 FR 40727).

The last notification was filed with the Department on July 2, 2003. A notice was published in the Federal Register pursuant to Section 6(b) of the Act on August 4, 2003 (68 FR 45854).

Dorothy B. Fountain,
Deputy Director of Operations, Antitrust Division.

[FR Doc. 03-28284 Filed 11-10-03; 8:45 am]

BILLING CODE 4410-11-M